DEPARTMENT OF STATE

[Public Notice 4188]

Shipping Coordinating Committee; Notice of Meeting

The Shipping Coordinating Committee (SHC) will conduct a joint, open meeting at 1:30 p.m. on Thursday, May 22, 2003, at the Island Grand Beach Resort and Conference Center; 5600 Gulf Boulevard, St. Pete Beach, Florida. The meeting will be held in connection with the Radio Technical Commission for Maritime Services (RTCM) 2003 Annual Assembly Meeting. The purpose of the meeting is to review the outcome of the Seventh Session of the International Maritime Organization (IMO) Subcommittee on Radiocommunications and Search and Rescue (COMSAR), that occurred in January 13-17, 2003, at IMO headquarters in London, England. Additionally, the meeting is to prepare for the 49th session of the IMO Subcommittee on Safety of Navigation (NAV 49), which is scheduled for June 30-July 4, 2003, at the IMO Headquarters in London.

Items of principal interest on the COMSAR agenda are:

• Maritime Safety Information for GMDSS;

• Development of a procedure for recognition of mobile satellite systems;

• Revision of performance standards for NAVTEX equipment;

• Emergency radiocommunications, including false alerts and interference;

• Large passenger ship safety;

• Issues related to maritime security;

• Developments in maritime radiocommunication systems and technology, including long-range tracking;

• Matters concerning Search & Rescue;

• Planning for the 8th session of COMSAR.

Items of principal interest on the NAV 49 agenda are:

• Routing of ships, ship reporting and related matters;

• Requirements for the display and use of Automatic Identification System (AIS) information on shipborne navigational displays;

• Places of refuge;

• Anchoring, mooring and towing equipment;

• Revision of performance standards for radar reflectors;

• Review of performance standards for radar equipment;

• International Telecommunication Union (ITU) matters, including Radiocommunication ITU-R Study Group 8 matters;

• Large passenger ship safety: Effective voyage planning for large passenger ships;

• Measures to enhance maritime security;

• World-wide radionavigation system;

• Casualty analysis;

• Guidance on early abandonment for bulk carriers.

Members of the public may attend these meetings up to the seating capacity of the rooms. Interested persons may seek information, including meeting room numbers, by writing; Mr. Russell S. Levin, U.S. Coast Guard Headquarters, Commandant (G-SCT-2), Room 6509, 2100 Second Street, SW., Washington, DC 20593-0001, by calling: (202) 267-1389, or by sending Internet electronic mail to rlevin@comdt.uscg.mil.

Information for the RTCM meeting can be found at https://www.rtcm.org/index2.html.

Dated: May 1, 2003.
Frederick J. Kenney,
Executive Secretary, Shipping Coordinating Committee, Department of State.

[FR Doc. 03-11606 Filed 5-8-03; 8:45 am]

BILLING CODE 4710-07-P